DEPARTMENT OF AGRICULTURE

Submission for OMB Review; Comment Request

April 30, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by June 3, 2013 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Certification Program for Imported Articles to Prevent Introduction of Potato Brown Rot.

OMB Control Number: 0579-0221.

Summary of Collection: Under the Plant Protection Act (7 U.S.C. 7701-7772), the Secretary of Agriculture is authorized to prohibit or restrict the importation, entry or movement of plants and plant pest to prevent the introduction of plant pest into the United States. The regulations in 7 CFR part 319 include a certification program for articles of Pelargonium spp. and Solanum spp. imported from countries where the bacterium Ralstonia solanacearum race 3 biovar 2 is known to occur. This bacterial strain causes potato brown rot, which causes potatoes to rot through, making them inedible and seriously affecting potato yields.

Need and Use of the Information: The Animal Plant and Health Inspection Service (APHIS) require the collection of information through a phytosanitary certificate (foreign), trust funds, and compliance agreement and production site registration. If the information is not collected, potato fields could become infected with the strain of R. solanacearum and this could drastically reduce or eliminate potato fields.

Description of Respondents: Business or other for-profit; Federal Government.

Number of Respondents: 27.

Frequency of Responses: Reporting: On occasion.

Total Burden Hours: 1,032.

Title: Importation of Fruit from Thailand.

OMB Control Number: 0579-0308.

Summary of Collection: Under the Plant Protection Act (7 U.S.C. 7701 et seq), the Secretary of Agriculture is authorized to carry out operations or measures to detect, eradicate, suppress, control., prevent, or retard the spread of plant pests new to the United States or not known to be widely distributed throughout the United States. The Animal and Plant Health Inspection Service (APHIS) amended the fruit and vegetables regulations to allow the importation into the United State of litchi, longan, mango, mangosteen, pineapple, and rambutan from Thailand. The fruit would have to be accompanied by a phytosanitary certificate with an additional declaration stating that the fruit had been tested with irradiation in Thailand and in the case of litchi, that the fruit had been inspected and found to be free of Peronophythora litchi, a fungal pest of litchi.

Need and Use of the Information: APHIS will use the information on the certificate to determine the pest condition of the shipment at the time of inspection in the foreign country. This information is used as a guide to the intensity of the inspection APHIS conduct when the shipment arrives. Without this information, all shipments would need to be inspected very thoroughly, thereby requiring considerably more time. This would slow the clearance of international shipments.

Description of Respondents: Federal Government (Foreign).

Number of Respondents: 10.

Frequency of Responses: Reporting: On occasion.

Total Burden Hours: 78.

Title: Permanent, Privately Owned Horse Quarantine Facilities.

OMB Control Number: 0579-0313.

Summary of Collection: The Animal Health Protection Act (AHPA) of 2002 is the primary Federal law governing the protection of animal health. The AHPA is contained in Title X, Subtitle E, Section 10401-19 of Public Law 107-171, May 13, 2002, the Farm Security and Rural Investment Act of 2002. The law gives the Secretary of Agriculture broad authority to detect, control, or eradicate pests or diseases of livestock or poultry. The Animal and Plant Health Inspection Service (APHIS) regulations in subpart C of part 93, on the importation of horses include requirements for the approval and establishment of permanent, privately owned horse quarantine facilities that are operated under APHIS supervision. These regulations necessitate the use of several information collection activities when applicants apply for approval to establish and operate permanent, privately owned quarantine facilities for horses.

Need and Use of the Information: APHIS will collect the following information: (1) Environment Certification, (2) Application for Facility Approval, (3) Service Agreements, (4) Letter Challenging Withdrawal for Facility Approval, (5) Letter Notifying APHIS of Facility Closure, (6) Compliance Agreement, (7) Security Instructions, (8) Alarm Notification, (9) Security Breach, (10) List of Personnel, (11) Signed Statements, (12) Daily Log, and (13) Request for Variance.

Without the information APHIS would be unable to approve permanent, privately owned horse quarantine facilities.

Description of Respondents: Business or other for-profit; State, Local or Tribal Government .

Number of Respondents: 6.

Frequency of Responses: Recordkeeping; Reporting: On occasion.

Total Burden Hours: 17.

Ruth Brown,
Departmental Information Collection Clearance Officer.

[FR Doc. 2013-10548 Filed 5-2-13; 8:45 am]

BILLING CODE 3410-34-P